COMMITTEE FOR PURCHASE FROM PEOPLE WHO ARE BLIND OR SEVERELY DISABLED

Procurement List; Additions

AGENCY: Committee for Purchase From People Who Are Blind or Severely Disabled.

ACTION: Additions to from the Procurement List.

SUMMARY: This action adds service(s) to the Procurement List that will be furnished by nonprofit agencies employing persons who are blind or have other severe disabilities.

DATES: Date added to and deleted from the Procurement List: September 07, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION:

Additions

On May 16, 2025, June 6, 2025, June 13, 2025, and June 20, 2025, the Committee for Purchase From People Who Are Blind or Severely Disabled (operating as the U.S. AbilityOne Commission) published an initial notice of proposed additions to the Procurement List. (90 FR 21013, 90 FR 24103, 90 FR 25030, and 90 FR 26035). The Committee determined that the services listed below are suitable for procurement by the Federal Government and has added this services to the Procurement List as a mandatory purchase for the contracting activities listed. In accordance with 41 CFR 51-5.3(b), the mandatory purchase requirement is limited to the contracting activity listed at the location listed, and in accordance with 41 CFR 51-5.2, the Committee has authorized the nonprofit agency listed as the mandatory source of supply. After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Custodial Service

Mandatory for: National Park Service, Pearl Harbor National Memorial, Shoreside Visitor Facilities Honolulu, HI

Authorized Source of Supply: Network Enterprises, Inc., Honolulu, HI

Contracting Activity: NATIONAL PARK SERVICE, NATIONAL PARK SERVICE

Service Type: Grounds Maintenance

Mandatory for: GSA PBS Region 9, Frank Hagel Federal Building, Richmond, CA

Authorized Source of Supply: PRIDE Industries, Roseville, CA

Contracting Activity: PUBLIC BUILDINGS SERVICE, PBS R9 AMD SERVICES CONTRACTING BRANCH

Service Type: Scanning Support Services

Mandatory for: US Customs and Border Protection, Office of Human Resources Management, Talent Management Directorate, Processing and Servicing Center, Major General Emmett J. Bean Federal Center, Indianapolis, IN

Authorized Source of Supply: Coleman Professional Services, Kent, OH

Contracting Activity: U.S. CUSTOMS AND BORDER PROTECTION, MISSION SUPPORT CTR DIV

Service Type: Facility Support Services

Mandatory for: US Census Bureau, Headquarters (USCB), Bowie Computer Center (BCC), and Franconia Warehouse, Suitland and Bowie MD, & Springfield VA

Authorized Source of Supply: ServiceSource, Inc., Oakton, VA

Contracting Activity: US CENSUS BUREAU, DEPT OF COMMERCE CENSUS

Service Type: Janitorial Service

Mandatory for: The United States Geological Survey Western Fisheries Research Center (WFRC) Marrowstone Marine Field Station, Norland, WA

Authorized Source of Supply: Skookum Educational Programs, Bremerton, WA

Contracting Activity: US GEOLOGICAL SURVEY, OFFICE OF ACQUISITON GRANTS

Service Type: Postal Service Center Operations

Mandatory for: US Air Force, Postal Service Center, Altus Air Force Base, Altus AFB, OK

Authorized Source of Supply: VersAbility Resources, Inc., Hampton, VA

Contracting Activity: DEPT OF THE AIR FORCE, FA4419 97 CONS CC

Michael R. Jurkowski,
Director, Business Operations.

[FR Doc. 2025-14993 Filed 8-6-25; 8:45 am]

BILLING CODE 6353-01-P